DEPARTMENT OF THE INTERIOR

Bureau of Indian Affairs

[201A2100DD/AAKC001030/A0A51010.999900]

Land Acquisitions; Snoqualmie Indian Tribe

AGENCY: Bureau of Indian Affairs, Interior.

ACTION: Notice.

SUMMARY: The Assistant Secretary—Indian Affairs has made a final determination to acquire 16.63 acres, more or less, into trust for the Snoqualmie Indian Tribe on March 18, 2020.

FOR FURTHER INFORMATION CONTACT: Ms. Sharlene M. Round Face, Bureau of Indian Affairs, Division of Real Estate Services, 1001 Indian School Road NW, Box #44, Albuquerque, New Mexico 87104, telephone (505) 563-3132.

SUPPLEMENTARY INFORMATION: This notice is published in the exercise of authority delegated by the Secretary of the Interior to the Assistant Secretary—Indian Affairs by part 209 of the Departmental Manual, and is published to comply with the requirement of 25 CFR 151.12(c)(2)(ii) that notice of the decision to acquire land in trust be promptly published in the Federal Register.

On March 18, 2020, the Assistant Secretary—Indian Affairs issued a decision to accept land in trust for the Snoqualmie Indian Tribe under the authority of the Indian Reorganization Act of 1934 (48 Stat. 984; 25 U.S.C. 5108).

Legal Description

Parcel No. 780290-0405 (“Rebhuhn Parcel”)

Beginning at a point on the South line of the Northwest quarter of Section 31, Township 24 North, Range 8 East, W.M., 1741.29 feet S88°51′11″ W of the Southeast corner of the Northwest corner of said Section 31;

Thence N3°02′25″ W 627.28 feet to the South line of a 60 foot street;

Thence S86°57′35″ W along said street 330.0 feet;

Thence S3°02′25″ E 616.36 feet to the South line of said Northwest quarter of said section 31;

Thence N88°51′11″ E along said South line of said Northwest quarter of said section 31, 330.18 feet to the point of beginning, in King County, Washington. (4.71 acres) (also known as Lot 4, Block 3, of the unrecorded Plat of Si-View Acre tracts)

Parcel No. 780290-0520 (“Meyers Parcel”)

That portion of the Northwest quarter of Section 31, Township 24 North, Range 8 East, W.M., in King County, Washington, described as follows:

Beginning at a point on the section line between Section 31, Township 24 North, Range 8 East, W.M., in King County, Washington and Section 36, Township 24 North, Range 8 East, W.M., in King County, Washington, 628.28 feet N0°30′14″ W of the one-quarter corner between said Sections 31 and 36;

Thence N86°57′35″ E 226.80 feet;

Thence N3°02′25″ W 30.0 feet;

Thence N86°57′35″ E 630 feet to the West line of Weathervane Plats, page 29, in King County, Washington;

Thence N3°02′25″ W along said West line 660 feet;

Thence S86°57′35″ W to the section line between Sections 31 and 36;

Thence S0°30′14″ E along the section line 690.64 feet to the Point of Beginning; except that portion described as follows:

The West 256 feet in width of that portion of the Northwest quarter of Section 31, Township 24 North, Range 8 East, W.M., in King County, Washington, described as follows:

Beginning at a point on the section line between Section 31, Township 24 North, Range 8 East, W.M., in King County, Washington and Section 36, Township 24 North, Range 8 East, W.M., in King County, Washington, 628.28 feet N0°30′14″ W of the one-quarter corner between said Sections 31 and 36;

Thence N86°57′35″ E 226.80 feet;

Thence N3°02′25″ W 30.0 feet;

Thence N86°57′35″ E 374 feet to the True Point of Beginning;

Thence N86°57′35″ E 586 feet to the west line of that certain tract of land described in deed recorded under recording number 3324383, King County Building Co., grantor, to Ernest C. Crawford and Helen G. Crawford, his wife, grantees;

Thence N3°02′25″ W, 660 feet to a point N86°57′35″ E 1098.74 feet and S3°02′25″ E; 1305.79 feet from the Northwest corner of said Section 31;

Thence S86°57′35″ W 586 feet;

Thence S0°30′14″ E 660 feet to the True Point of Beginning. (9.03 acres) (also known as Lot 5, and the West 74 feet of Lot 4, Block 4, Si-View Acre Tracts, according to the unrecorded plat thereof).

Parcel No. 362047-9001 (“Tudor Parcel 1”)

That portion of the South 265.14 feet of the North half of the Southeast quarter of the Northeast quarter of Section 36, Township 24 North, Range 7 East, W.M. in King County, Washington, lying Easterly of County Road;

Except the Northern Pacific Railway spur right-of-way. (1.53 acres)

Parcel No. 362407-9082 (“Tudor Parcel 2”)

That portion of the North half of the Southeast quarter of the Northeast quarter of Section 36, Township 24 North, Range 7 East, W.M. in King County, Washington, lying Easterly of County Road;

Except the South 265.14 feet thereof;

and Except the Northern Pacific Railway Spur right-of-way. (1.36 acres)

All Situate in the County of King, State of Washington.

Containing 16.63 acres, more or less.

Tara Sweeney,
Assistant Secretary—Indian Affairs.

[FR Doc. 2020-13082 Filed 6-17-20; 8:45 am]

BILLING CODE 4337-15-P